DEPARTMENT OF TRANSPORTATION

Federal Aviation Administration

14 CFR Part 71

[Docket No. FAA-2022-0867; Airspace Docket No. 21-AAL-39]

RIN 2120-AA66

Establishment of United States Area Navigation (RNAV) Route T-435; Sand Point, AK

AGENCY: Federal Aviation Administration (FAA), DOT.

ACTION: Final rule; correction.

SUMMARY: The FAA is correcting a final rule that published in the Federal Register on June 28, 2022, that established RNAV route T-435 in the vicinity of Sandy Point, AK. In the description of T-435, the final rule identified the RAYMD, AK route point as a waypoint (WP), in error. This action makes editorial corrections to all references of the RAYMD, AK, WP to change them to the RAYMD, AK, Fix to match the FAA's aeronautical database information.

DATES: Effective date 0901 UTC, September 8, 2022. The Director of the Federal Register approves this incorporation by reference action under 1 CFR part 51, subject to the annual revision of FAA Order 7400.11 and publication of conforming amendments.

ADDRESSES: FAA Order 7400.11F, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

History

The FAA published a final rule in the Federal Register (87 FR 38265; June 28, 2022) for Docket No. FAA-2022-0867, which established RNAV route T-435. Subsequent to publication, the FAA determined that the RAYMD, AK, route point was inadvertently identified as a WP, in error. This rule corrects that error by changing all references from the RAYMD, AK, WP, to the RAYMD, AK, Fix. This is an editorial change only to match the FAA's aeronautical database information and does not alter the alignment of T-435.

United States RNAV routes are published in paragraph 6011 are published in paragraph 6011 of FAA Order JO 7400.11F, dated August 10, 2021, and effective September 15, 2021, which is incorporated by reference in 14 CFR 71.1. The RNAV route listed in this document will be published subsequently in FAA Order JO 7400.11.

Correction to Final Rule

Accordingly, pursuant to the authority delegated to me, reference to the RAYMD, AK, WP, published in the Federal Register of June 28, 2022 (87 FR 38265), FR Doc. 2022-13682, is corrected as follows:

1. On page 38266, in the first column, at line 26, correct “RAYMD, AK WP” to read “RAYMD, AK FIX.”

Issued in Washington, DC, on August 3, 2022.
Scott M. Rosenbloom,
Manager, Airspace Rules and Regulations.

[FR Doc. 2022-16948 Filed 8-11-22; 8:45 am]

BILLING CODE 4910-13-P